DEPARTMENT OF HOMELAND SECURITY

Federal Emergency Management Agency

[Docket ID FEMA-2020-0002; Internal Agency Docket No. FEMA-B-2023]

Changes in Flood Hazard Determinations

AGENCY: Federal Emergency Management Agency, DHS.

ACTION: Notice.

SUMMARY: This notice lists communities where the addition or modification of Base Flood Elevations (BFEs), base flood depths, Special Flood Hazard Area (SFHA) boundaries or zone designations, or the regulatory floodway (hereinafter referred to as flood hazard determinations), as shown on the Flood Insurance Rate Maps (FIRMs), and where applicable, in the supporting Flood Insurance Study (FIS) reports, prepared by the Federal Emergency Management Agency (FEMA) for each community, is appropriate because of new scientific or technical data. The FIRM, and where applicable, portions of the FIS report, have been revised to reflect these flood hazard determinations through issuance of a Letter of Map Revision (LOMR), in accordance with Federal Regulations. The LOMR will be used by insurance agents and others to calculate appropriate flood insurance premium rates for new buildings and the contents of those buildings. For rating purposes, the currently effective community number is shown in the table below and must be used for all new policies and renewals.

DATES: These flood hazard determinations will be finalized on the dates listed in the table below and revise the FIRM panels and FIS report in effect prior to this determination for the listed communities.

From the date of the second publication of notification of these changes in a newspaper of local circulation, any person has 90 days in which to request through the community that the Deputy Associate Administrator for Insurance and Mitigation reconsider the changes. The flood hazard determination information may be changed during the 90-day period.

ADDRESSES: The affected communities are listed in the table below. Revised flood hazard information for each community is available for inspection at both the online location and the respective community map repository address listed in the table below. Additionally, the current effective FIRM and FIS report for each community are accessible online through the FEMA Map Service Center at https://msc.fema.gov for comparison.

Submit comments and/or appeals to the Chief Executive Officer of the community as listed in the table below.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The specific flood hazard determinations are not described for each community in this notice. However, the online location and local community map repository address where the flood hazard determination information is available for inspection is provided.

Any request for reconsideration of flood hazard determinations must be submitted to the Chief Executive Officer of the community as listed in the table below.

The modifications are made pursuant to section 201 of the Flood Disaster Protection Act of 1973, 42 U.S.C. 4105, and are in accordance with the National Flood Insurance Act of 1968, 42 U.S.C. 4001 et seq., and with 44 CFR part 65.

The FIRM and FIS report are the basis of the floodplain management measures that the community is required either to adopt or to show evidence of having in effect in order to qualify or remain qualified for participation in the National Flood Insurance Program (NFIP).

These flood hazard determinations, together with the floodplain management criteria required by 44 CFR 60.3, are the minimum that are required. They should not be construed to mean that the community must change any existing ordinances that are more stringent in their floodplain management requirements. The community may at any time enact stricter requirements of its own or pursuant to policies established by other Federal, State, or regional entities. The flood hazard determinations are in accordance with 44 CFR 65.4.

The affected communities are listed in the following table. Flood hazard determination information for each community is available for inspection at both the online location and the respective community map repository address listed in the table below. Additionally, the current effective FIRM and FIS report for each community are accessible online through the FEMA Map Service Center at https://msc.fema.gov for comparison.

(Catalog of Federal Domestic Assistance No. 97.022, “Flood Insurance.”)

Michael M. Grimm,
Assistant Administrator for Risk Management, Department of Homeland Security, Federal Emergency Management Agency.

State and county | Location and case No. | Chief executive officer of community | Community map repository | Online location of letter of map revision | Date of modification | Community No.
Colorado: Broomfield | City and County of Broomfield (19-08-1004P) | The Honorable Patrick Quinn, Mayor, City and County of Broomfield, 1 DesCombes Drive, Broomfield, CO 80020 | Engineering Department, 1 DesCombes Drive, Broomfield, CO 80020 | https://msc.fema.gov/portal/advanceSearch | May 6, 2020 | 085073
Florida:
Lee | City of Sanibel, (19-04-6595P) | The Honorable Kevin Ruane, Mayor, City of Sanibel, 800 Dunlop Road, Sanibel, FL 33957 | Community Services Department, 800 Dunlop Road, Sanibel, FL 33957 | https://msc.fema.gov/portal/advanceSearch | Jul. 15, 2020 | 120402
Monroe | Unincorporated areas of Monroe County, (20-04-1422P) | The Honorable Heather Carruthers, Mayor, Monroe County Board of Commissioners, 500 Whitehead Street, Suite 102, Key West, FL 33040 | Monroe County Building Department, 2798 Overseas Highway, Suite 300, Marathon, FL 33050 | https://msc.fema.gov/portal/advanceSearch | Jul. 21, 2020 | 125129
Palm Beach | City of Westlake, (19-04-3409P) | Mr. Kenneth G. Cassel, City of Westlake Manager, 4001 Seminole Pratt, Whitney Road, Westlake, FL 33470 | City Hall, 4001 Seminole Pratt, Whitney Road, Westlake, FL 33470 | https://msc.fema.gov/portal/advanceSearch | Jul. 15, 2020 | 120018
Massachusetts:
Plymouth | Town of Duxbury, (20-01-0284P) | The Honorable David J. Madigan, Chairman, Town of Duxbury Board of Selectmen, 878 Tremont Street, Duxbury, MA 02332 | Planning Department, 878 Tremont Street, Duxbury, MA 02332 | https://msc.fema.gov/portal/advanceSearch | Jul. 6, 2020 | 250263
Plymouth | Town of Marshfield, (20-01-0284P) | The Honorable Joseph E. Kelleher, Chairman, Town of Marshfield Board of Selectmen, 870 Moraine Street, Marshfield, MA 02050 | Building Department, 870 Moraine Street, Marshfield, MA 02050 | https://msc.fema.gov/portal/advanceSearch | Jul. 6, 2020 | 250273
North Carolina:
Wake County | Town of Cary (19-04-3102P | The Honorable Harold Weinbrecht, Mayor, Town of Cary, P.O. Box 8005, Cary, NC 27512 | Stormwater Services Division, 316 North Academy Street, Cary, NC 27513 | http://msc.fema.gov/portal/advanceSearch | Apr. 15, 2020 | 370238
Wake County | Town of Morrisville, (19-04-3102P | The Honorable T.J. Cawley, Mayor, Town of Morrisville, 100 Town Hall Drive, Morrisville, NC 27560 | Planning Department, 260 Town Hall Drive, Suite B, Morrisville, NC 27560 | http://msc.fema.gov/portal/advanceSearch | Apr. 15, 2020 | 370242
Oklahoma:
Tulsa | City of Tulsa, (18-06-3174P) | The Honorable G.T. Bynum, Mayor, City of Tulsa, 175 East 2nd Street, Tulsa, OK 74103 | Development Services Department, 175 East 2nd Street, Suite 450, Tulsa, OK 74103 | https://msc.fema.gov/portal/advanceSearch | Jul. 9, 2020 | 405381
Tulsa | City of Tulsa, (19-06-3205P) | The Honorable G.T. Bynum, Mayor, City of Tulsa, 175 East 2nd Street, Tulsa, OK 74103 | Development Services Department, 175 East 2nd Street, Suite 450, Tulsa, OK 74103 | https://msc.fema.gov/portal/advanceSearch | Jun. 25, 2020 | 405381
Pennsylvania:
Lackawanna | Borough of Jermyn, (20-03-0330P) | The Honorable Frank Kulick, President, Borough of Jermyn Council, 440 Jefferson Avenue, Jermyn, PA 18433 | Borough Hall, 440 Jefferson Avenue, Jermyn, PA 18433 | https://msc.fema.gov/portal/advanceSearch | Aug. 6, 2020 | 420530
Lackawanna | Borough of Mayfield, (20-03-0330P) | The Honorable Alexander J. Chelik, Mayor, Borough of Mayfield, 739 Penn Avenue, Mayfield, PA 18433 | Borough Hall, 739 Penn Avenue, Mayfield, PA 18433 | https://msc.fema.gov/portal/advanceSearch | Aug. 6, 2020 | 420532
Lackawanna | Township of Carbondale, (20-03-0330P) | The Honorable Paul Figliomeni, Chairman, Township of Carbondale Board of Supervisors, 103 School Street, Childs, PA 18407 | Township Hall, 103 School Street, Childs, PA 18407 | https://msc.fema.gov/portal/advanceSearch | Aug. 6, 2020 | 421750
Montgomery | Township of Whitpain, (19-03-1425P) | The Honorable Frederick R. Conner, Jr., Chairman, Township of Whitpain Board of Supervisors, 960 Wentz Road, Blue Bell, PA 19422 | Township Hall, 960 Wentz Road, Blue Bell, PA 19422 | https://msc.fema.gov/portal/advanceSearch | Jul. 6, 2020 | 420713
Rhode Island:
Washington | Town of Hopkinton, (20-01-0268P) | The Honorable Frank Landolfi, President, Town of Hopkinton Council, 1 Town House Road, Hopkinton, RI 02833 | Town Hall, 1 Town House Road, Hopkinton, RI 02833 | https://msc.fema.gov/portal/advanceSearch | Jul. 6, 2020 | 440028
Washington | Town of Richmond, (20-01-0268P) | The Honorable Rich Nassaney, President, Town of Richmond Council, 5 Richmond Townhouse Road, Wyoming, RI 02898 | Town Hall, 5 Richmond Townhouse Road, Wyoming, RI 02898 | https://msc.fema.gov/portal/advanceSearch | Jul. 6, 2020 | 440031
Tennessee:
Shelby | Town of Collierville, (18-04-7494P) | The Honorable Stan Joyner, Jr., Mayor, Town of Collierville, 500 Poplar View Parkway, Collierville, TN 38017 | Department of Public Services, 500 Keough Road, Collierville, TN 38017 | https://msc.fema.gov/portal/advanceSearch | May 8, 2020 | 470263
Shelby | Unincorporated areas of Shelby County, (18-04-7494P) | The Honorable Lee Harris, Mayor, Shelby County, 160 North Main Street, Memphis, TN 38103 | Shelby County Department of Engineering, 6463 Haley Road, Memphis, TN 38134 | https://msc.fema.gov/portal/advanceSearch | May 8, 2020 | 470214
Texas:
Bell | City of Harker Heights, (18-06-3437P) | The Honorable Spencer H. Smith, Mayor, City of Harker Heights, 305 Millers Crossing, Harker Heights, TX 76548 | Building and Permits Department, 305 Millers Crossing, Harker Heights, TX 76548 | https://msc.fema.gov/portal/advanceSearch | Jun. 17, 2020 | 480029
Bexar | City of San Antonio, (19-06-1390P) | The Honorable Ron Nirenberg, Mayor, City of San Antonio, P.O. Box 839966, San Antonio, TX 78283 | Transportation and Capitol Improvements Department, Storm Water Division, 114 West Commerce Street, 7th Floor, San Antonio, TX 78205 | https://msc.fema.gov/portal/advanceSearch | Jun. 22, 2020 | 480045
Bexar | Unincorporated areas of Bexar County, (19-06-3386P) | The Honorable Nelson W. Wolff, Bexar County Judge, 101 West Nueva Street, 10th Floor, San Antonio, TX 78205 | Bexar County Public Works Department, 1948 Probandt Street, San Antonio, TX 78214 | https://msc.fema.gov/portal/advanceSearch | Jun. 15, 2020 | 480035
Collin | City of Plano, (20-06-0804P) | The Honorable Harry LaRosiliere, Mayor, City of Plano, 1520 K Avenue, Suite 300, Plano, TX 75074 | Department of Engineering, 1520 K Avenue, Suite 250, Plano, TX 75074 | https://msc.fema.gov/portal/advanceSearch | Jul. 17, 2020 | 480140
Denton | City of Denton (19-06-2271P) | The Honorable Chris Watts, Mayor, City of Denton, 215 East McKinney Street, Denton, TX 76201 | Engineering Department, 901-A Texas Street, Denton, TX 76209 | https://msc.fema.gov/portal/advanceSearch | Jul. 17, 2020 | 480194
Denton | City of Denton (20-06-0789P) | The Honorable Chris Watts, Mayor, City of Denton, 215 East McKinney Street, Denton, TX 76201 | Engineering Department, 901-A Texas Street, Denton, TX 76209 | https://msc.fema.gov/portal/advanceSearch | Jul. 24, 2020 | 480194
Denton | Unincorporated areas of Denton County, (20-06-0789P) | The Honorable Andy Eads, Denton County Judge, 110 West Hickory Street, 2nd Floor, Denton, TX 76201 | Denton County Public Works, Engineering Department, 1505 East McKinney Street, Suite 175, Denton, TX 76209 | https://msc.fema.gov/portal/advanceSearch | Jul. 24, 2020 | 480774
El Paso | City of El Paso, (19-06-2053P) | Mr. Tommy Gonzalez, Manager, City of El Paso, 300 North Campbell Street, El Paso, TX 79901 | Development Department, 801 Texas Avenue, El Paso, TX 79901 | https://msc.fema.gov/portal/advanceSearch | Jun. 16, 2020 | 480214
El Paso | Unincorporated areas of El Paso County, (19-06-2053P) | The Honorable Ricardo A. Samaniego, El Paso County Judge, 500 East San Antonio Street, Suite 301, El Paso, TX 79901 | El Paso County Public Works Department, 800 East Overland Avenue, Suite 200, El Paso, TX 79901 | https://msc.fema.gov/portal/advanceSearch | Jun. 16, 2020 | 480212
Kaufman | City of Crandall (19-06-3605P) | The Honorable Danny Kirbie, Mayor, City of Crandall, P.O. Box 277, Crandall, TX 75114 | City Hall, 110 South Main Street, Crandall, TX 75114 | https://msc.fema.gov/portal/advanceSearch | Jul. 10, 2020 | 480409
Kaufman | Unincorporated areas of Kaufman County, (19-06-3605P) | The Honorable Hal Richards, Kaufman County Judge, 100 West Mulberry Street, Kaufman, TX 75142 | Kaufman County Development Services Department, 106 West Grove Street, Kaufman, TX 75142 | https://msc.fema.gov/portal/advanceSearch | Jul. 10, 2020 | 480411
Kaufman | Unincorporated areas of Kaufman County, (20-06-0329P) | The Honorable Hal Richards, Kaufman County Judge, 100 West Mulberry Street, Kaufman, TX 75142 | Kaufman County Development Services Department, 106 West Grove Street, Kaufman, TX 75142 | https://msc.fema.gov/portal/advanceSearch | Jul. 6, 2020 | 480411
Kendall | Unincorporated areas of Kendall County, (19-06-2192P) | The Honorable Darrel L. Lux, Kendall County Judge, 201 East San Antonio Avenue, Suite 122, Boerne, TX 78006 | Kendall County Engineering Department, 201 East San Antonio Avenue, Suite 101, Boerne, TX 78006 | https://msc.fema.gov/portal/advanceSearch | Jun. 24, 2020 | 480417
Tarrant | City of Hurst, (18-06-4025P) | The Honorable Henry Wilson, Mayor, City of Hurst, 1505 Precinct Line Road, Hurst, TX 76054 | Public Works Department, 1505 Precinct Line Road, Hurst, TX 76054 | https://msc.fema.gov/portal/advanceSearch | Jul. 6, 2020 | 480601
Tarrant | City of Richland Hills, (18-06-4025P) | The Honorable Edward Lopez, Mayor, City of Richland Hills, 3200 Diana Drive, Richland Hills, TX 76118 | City Hall, 3200 Diana Drive, Richland Hills, TX 76118 | https://msc.fema.gov/portal/advanceSearch | Jul. 6, 2020 | 480608
Travis | Unincorporated areas of Travis County, (19-06-2941P) | The Honorable Sarah Eckhardt, Travis County Judge, P.O. Box 1748, Austin, TX 78767 | Travis County Transportation and Natural Resources Department, 700 Lavaca Street, 5th Floor, Austin, TX 78701 | https://msc.fema.gov/portal/advanceSearch | Jul. 13, 2020 | 481026
Utah:
Washington | City of St. George, (20-08-0005P) | The Honorable Jonathon T. Pike, Mayor, City of St. George, 175 East 200 North, St. George, UT 84770 | City Hall, 175 East 200 North, St. George, UT 84770. | https://msc.fema.gov/portal/advanceSearch | Jul. 1, 2020 | 490177

[FR Doc. 2020-07052 Filed 4-2-20; 8:45 am]

BILLING CODE 9110-12-P